OFFICE OF SCIENCE AND TECHNOLOGY POLICY

Public Listening Sessions on Scientific Integrity and Evidence-Based Policymaking

AGENCY: Office of Science and Technology Policy (OSTP), The White House.

ACTION: Announcement of meeting.

SUMMARY: The White House Office of Science and Technology Policy (OSTP) is organizing a series of three virtual listening sessions to hear about issues and concerns related to scientific integrity from members of the public who produce, communicate, and use scientific and technical information. Perspectives gathered during the virtual listening sessions will inform the assessment of Federal agencies' scientific-integrity policies and identification of best practices and lessons-learned that the National Science and Technology Council's Task Force on Scientific Integrity is preparing, pursuant to the January 2021 Presidential Memorandum on Restoring Trust in Government Through Scientific Integrity and Evidence-Based Policymaking.

DATES:

Virtual listening sessions (all times Eastern Daylight Time):

1. Communications: Wednesday, July 28, 2021, 2:00 p.m. to 4:00 p.m.

2. Science and Education: Thursday, July 29, 2021, 11:00 a.m. to 1:00 p.m.

3. Use of Scientific and Technical Information: Friday, July 30, 2021, 2:00 p.m. to 4:00 p.m.

Registration deadline: Friday, July 23, 2021, 5:00 p.m.

ADDRESSES: Register for a virtual listening session using the session-specific links below:

1. Communications: https://ida-org.zoomgov.com/meeting/register/vJIsdeGrqTstHfZn-KhEXlhuusJW7sGzvx0.

2. Science and Education: https://ida-org.zoomgov.com/meeting/register/vJIsdeyspjgrG4tLkU3xiX8wbbxq_DPsDIM.

3. Use of Scientific and Technical Information: https://ida-org.zoomgov.com/meeting/register/vJItd-2grjMiHcF1JwMUaZQ9hxBRY9iJEKI.

FOR FURTHER INFORMATION CONTACT: For additional information, please contact Ryan Donohue, 202-456-4444, ScientificIntegrity@ostp.eop.gov.

SUPPLEMENTARY INFORMATION: The Presidential Memorandum on Restoring Trust in Government Through Scientific Integrity and Evidence-Based Policymaking, issued on January 27, 2021, calls for the establishment of an interagency Task Force on Scientific Integrity of the National Science and Technology Council to review the effectiveness of agency scientific integrity policies developed since the issuance of the Presidential Memorandum of March 9, 2009 on scientific integrity. To inform its review, the Task Force is organizing a series of virtual listening sessions to hear from members of the public who produce, communicate, and use scientific and technical information. Perspectives gathered during the virtual listening sessions will inform the Task Force's assessment of Federal agencies' scientific-integrity policies and identification of best practices and lessons-learned.

Each of three listening sessions will be organized around a particular theme and audience, described below:

Session 1 (Wednesday, July 28, 2:00 p.m. to 4:00 p.m. EDT): Communications, including effective policies and practices to improve the communication of scientific and technological information, including for engagement of Federal scientists and contractors with news media and on social media. The target audience includes individuals from news media, science writers, and science communicators.

Session 2 (Thursday, July 29, 2021, 11:00 a.m. to 1:00 p.m. EDT): Science and Education, including effective policies and practices to support professional development of scientists and researchers of all genders, races, ethnicities, and backgrounds; address scientific-integrity issues related to emerging technologies, such as artificial intelligence and machine-learning, and evolving scientific practices, such as citizen science and community-engaged research; improve training of scientific staff about scientific integrity; and handle disagreements about scientific methods and conclusions. The target audience includes scientists, engineers, and educators from the Federal and non-Federal sectors.

Session 3 (Friday, July 30, 2021, 2:00 p.m. to 4:00 p.m. EDT): Use of Scientific and Technical Information, including the effectiveness of Federal scientific integrity policies in promoting trust in Federal science and concerns about a lack of scientific integrity impeding the equitable delivery of the Federal Government's programs. Target audience includes individuals who use Federal scientific and technical information for decision-making or provision of services; individuals from disadvantaged communities; and other consumers of science.

Participants in all sessions may also comment on the predominant challenges they perceive to scientific integrity in Federal agencies and effective practices for minimizing political or other inappropriate interference in the conduct, communication, or use of Federal science. Speakers will have up to two minutes each to make a comment. As many speakers will be accommodated as the scheduled time allows.

Staff from the IDA Science and Technology Policy Institute will facilitate the meeting, which will be recorded for use by the Task Force. Participation in a listening session will imply consent to capture participant's names, voices, and likenesses. Anything said may be recorded and transcribed for use by the Task Force. Moderators will manage the discussion and order of remarks.

Individuals unable to attend the listening sessions or who would like to provide more detailed information may respond to the Request for Information (RFI) to Improve Federal Scientific Integrity Policies that was published in the Federal Register [86 FR 34064, June 28, 2021].

Dated: July 13, 2021.
Stacy Murphy,
Operations Manager.

[FR Doc. 2021-15309 Filed 7-19-21; 8:45 am]

BILLING CODE 3270-F1-P